DEPARTMENT OF STATE

[Public Notice: 10479]

Notice of Availability of the Draft Environmental Assessment for the Proposed Keystone XL Pipeline Mainline Alternative Route in Nebraska

ACTION: Notice of availability; solicitation of comments.

SUMMARY: The U.S. Department of State (Department) announces the availability of the Draft Environmental Assessment (Draft EA) for the Proposed Keystone XL Pipeline Mainline Alternative Route in Nebraska for public review and comment. The Draft EA evaluates the potential environmental impacts of the proposed Keystone XL Mainline Alternative Route —consistent with the National Environmental Policy Act of 1969— in support of the Bureau of Land Management's (BLM) review of TransCanada Keystone Pipeline, L.P.'s (TransCanada) application for a right-of-way.

DATES: The public comment period ends on August 29, 2018.

ADDRESSES: Comments may be submitted at https://www.regulations.gov by entering the title of this Notice or Docket Number: DOS-2018-0031 into the search field, and then following the prompts.

FOR FURTHER INFORMATION CONTACT: The Draft EA, along with detailed records on the proposed project and general information about the Presidential permit process, are available at: https://keystonepipeline-xl.state.gov.

Marko Velikonja, Office of Environmental Quality and Transboundary Issues, (202) 647-4828, VelikonjaMG@state.gov.

SUPPLEMENTARY INFORMATION: On January 26, 2017, TransCanada resubmitted its Presidential permit application for the proposed Keystone XL pipeline. On March 23, 2017, the Under Secretary of State for Political Affairs determined that issuance of a Presidential permit to TransCanada to construct, connect, operate, and maintain at the border of the United States pipeline facilities to transport crude oil from Canada to the United States would serve the national interest. Accordingly, the Under Secretary issued a Presidential permit to TransCanada for the Keystone XL pipeline. Later, on November 20, 2017, the Nebraska Public Service Commission approved the Mainline Alternative Route for that pipeline in the State of Nebraska. TransCanada's application to BLM for a right-of-way remains pending with that agency.

The Department invites members of the public, government agencies, tribal governments, and all other interested parties to comment on the Draft EA for the proposed Keystone XL Mainline Alternative Route during the 30-day public comment period. Comments provided by agencies and organizations should list a designated contact person. All comments received during the public comment period may be publicized. Comments will be neither private nor edited to remove either identifying or contact information. Commenters should omit information that they do not want disclosed. Any party who will either solicit or aggregate other people's comments should convey this cautionary message.

Robert D. Wing,
Acting Director, Office of Environmental Quality and Transboundary Issues.

[FR Doc. 2018-16241 Filed 7-27-18; 8:45 am]

BILLING CODE 4710-09-P